FEDERAL COMMUNICATIONS COMMISSION

[OMB 3060-0262; FR ID 293257]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before June 27, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control No.: 3060-0678.

Title: Part 25 of the Federal Communications Commission's Rules Governing the Licensing of, and Spectrum Usage by, Commercial Earth Stations and Space Stations.

Form Nos.: FCC Form 312, FCC Form 312-EZ, FCC Form 312-R and Schedules A, B and S.

Type of Review: Revision of a currently approved information collection.

Respondents: Business or other for-profit entities and not-for-profit institutions.

Number of Respondents and Responses: 3,539 respondents; 3,591 responses.

Estimated Time per Response: 0.5-80 hours per response.

Frequency of Response: On occasion, one time, and annual reporting requirements; third-party disclosure requirements; recordkeeping requirement.

Obligation To Respond: Required to obtain or retain benefits. The Commission has statutory authority for the information collection requirements under 47 U.S.C. 154, 301, 302, 303, 307, 309, 310, 319, 332, 605, and 721.

Total Annual Burden: 27,748 hours.

Annual Cost Burden: $4,154,267.

Needs and Uses: On April 21, 2023, the Commission released a Report and Order, FCC 23-29, IB Docket No. 21-456, titled “Revising Spectrum Sharing Rules for Non-Geostationary Orbit, Fixed-Satellite Service Systems.” In this Report and Order, the Commission revised its rules governing spectrum sharing among a new generation of broadband satellite constellations to promote market entry, regulatory certainty, and spectrum efficiency through good-faith coordination. As relevant to this information collection, the Commission adopted rules clarifying protection obligations between non-geostationary satellite orbit, fixed-satellite service (NGSO FSS) systems authorized through different processing rounds by using a degraded throughput methodology. Specifically, the Commission required that, prior to commencing operations, an NGSO FSS licensee or market access recipient must either certify that it has completed a coordination agreement with any operational NGSO FSS system licensed or granted U.S. market access in an earlier processing round, or submit for Commission approval a compatibility showing which demonstrates by use of a degraded throughput methodology that it will not cause harmful interference to any such system with which coordination has not been completed. If an earlier-round system becomes operational after a later-round system has commenced operations, the later-round licensee or market access recipient must submit a certification of coordination or a compatibility showing with respect to the earlier-round system no later than 60 days after the earlier-round system commences operations.

Further, on November 15, 2024, the Commission released a Second Report and Order in the same rulemaking proceeding, FCC 24-117, IB Docket No. 21-456, titled “Revising Spectrum Sharing Rules for Non-Geostationary Orbit, Fixed-Satellite Service Systems.” In this Second Report and Order, the Commission revised the NGSO FSS sharing rules to clarify certain details of the degraded throughput methodology that, in the absence of a coordination agreement, must be used in compatibility analyses by NGSO FSS system grantees authorized through later processing rounds to show they can operate compatibly with, and protect, NGSO FSS systems authorized through earlier processing rounds. The Commission adopted a 3% time-weighted average throughput degradation as a long-term interference protection criterion and a 0.4% absolute increase in link unavailability as a short-term interference protection criterion.

The relevant rule for purposes of this revised information collection is 47 CFR 25.261(d).

The new information collection requirements in this collection are needed to determine the technical qualifications of licensees and market access grantees to operate an NGSO FSS space station and to determine whether operations under an NGSO FSS authorization serve the public interest, convenience and necessity. Without such information, the Commission could not determine whether to permit respondents to provide communications services in the United States because it could not assure that incumbent NGSO FSS licensees and market access grantees are adequately protected from radiofrequency interference that could be caused by NGSO FSS satellite systems authorized through a later processing round. Therefore, the Commission would not be able to fulfill its statutory responsibilities in accordance with the Communications Act of 1934, as amended, and the obligations imposed on parties to the World Trade Organization Basic Telecom Agreement.

Federal Communications Commission.
Marlene Dortch,
Secretary, Office of the Secretary.

[FR Doc. 2025-09526 Filed 5-27-25; 8:45 am]

BILLING CODE 6712-01-P